NUCLEAR REGULATORY COMMISSION

10 CFR Part 51

[Docket No. PRM-51-10]

Massachusetts Attorney General; Receipt of Petition for Rulemaking; Reopening of Public Comment Period

AGENCY: Nuclear Regulatory Commission.

ACTION: Petition for rulemaking; reopening of public comment period.

SUMMARY: On November 1, 2006 (71 FR 64169), the Nuclear Regulatory Commission (NRC) published for public comment a notice of receipt of a petition for rulemaking, dated August 25, 2006, which was filed with the Commission by Diane Curran on behalf of the Massachusetts Attorney General. The petition was docketed by the NRC on September 19, 2006, and has been assigned Docket No. PRM-51-10. On December 15, 2006, several external stakeholder groups requested a 60 day extension of the public comment period owing to the importance of the rulemaking, the voluminous technical documents that require careful review, and the occurrence of major national events (elections) and holidays (Thanksgiving, Christmas, Hanukkah, and New Years celebrations) during the comment period which limits the time available for stakeholders to comment. The NRC is reopening the comment period on the petition for an additional 60 days from the original January 16, 2007 deadline. The comment period closes on March 19, 2007.

DATES: The comment period has been reopened and now expires on March 19, 2007. Comments received after this date will be considered if it is practical to do so, but the Commission is able to assure consideration only for comments received on or before this date.

ADDRESSES: You may submit comments on this petition by any one of the following methods. Please include PRM-51-10 in the subject line of your comments. Comments on petitions submitted in writing or in electronic form will be made available for public inspection. Because your comments will not be edited to remove any identifying or contact information, the NRC cautions you against including any information in your submission that you do not want to be publicly disclosed.

Mail comments to: Secretary, U.S. Nuclear Regulatory Commission, Washington, DC 20555-0001, ATTN: Rulemakings and Adjudications Staff.

E-mail comments to: SECY@nrc.gov. If you do not receive a reply e-mail confirming that we have received your comments, contact us directly at 301-415-1966. You may also submit comments via the NRC's rulemaking Web site at http://ruleforum.llnl.gov. Address questions about our rulemaking Web site to Carol Gallagher (301) 415-5905; e-mail cag@nrc.gov. Comments can also be submitted via the Federal eRulemaking Portal http://www.regulations.gov.

Hand deliver comments to: 11555 Rockville Pike, Rockville, Maryland 20852, between 7:30 am and 4:15 pm Federal workdays. Telephone number 301-415-1966.

Fax comments to: Secretary, U.S. Nuclear Regulatory Commission at (301) 415-1101. Publicly available documents related to this petition may be viewed electronically on the public computers located at the NRC's Public Document Room (PDR), Room O1 F21, One White Flint North, 11555 Rockville Pike, Rockville, Maryland. The PDR reproduction contractor will copy documents for a fee. Selected documents, including comments, may be viewed and downloaded electronically via the NRC rulemaking Web site at http://ruleforum.llnl.gov.

Publicly available documents created or received at the NRC after November 1, 1999, are available electronically at the NRC's Electronic Reading Room at http://www.nrc.gov/reading-rm/adams.html. From this site, the public can gain entry into the NRC's Agencywide Document Access and Management System (ADAMS), which provides text and image files of NRC's public documents. If you do not have access to ADAMS or if there are problems in accessing the documents located in ADAMS, contact the PDR Reference staff at 1-800-397-4209, 301-415-4737 or by e-mail to pdr@nrc.gov.

A paper copy of the petition may be obtained by contacting Betty Golden, Office of Administration, U.S. Nuclear Regulatory Commission, Washington, DC 20555-0001, telephone 301-415-6863, toll-free 1-800-368-5642, or by e-mail bkg2@nrc.gov.

FOR FURTHER INFORMATION CONTACT: Michael T. Lesar, Chief, Rulemaking, Directives and Editing Branch, Division of Administrative Services, Office of Administration, U.S. Nuclear Regulatory Commission, Washington, DC 20555-0001, telephone 301-415-7163 or toll free 1-800-368-5642.

Dated at Rockville, Maryland, this 12th day of January 2007.
For the U.S. Nuclear Regulatory Commission.
Annette L. Vietti-Cook,
Secretary of the Commission.

[FR Doc. E7-712 Filed 1-18-07; 8:45 am]

BILLING CODE 7590-01-P